COMMITTEE FOR PURCHASE FROM PEOPLE WHO ARE BLIND OR SEVERELY DISABLED

Procurement List; Additions and Deletion

AGENCY: Committee for Purchase From People Who Are Blind or Severely Disabled.

ACTION: Additions to and deletion from the Procurement List.

SUMMARY: This action adds services to the Procurement List that will be provided by nonprofit agencies employing persons who are blind or have other severe disabilities and deletes a service from the Procurement List previously furnished by such agency.

DATES: Effective Date: 9/13/2010.

ADDRESSES: Committee for Purchase From People Who Are Blind or Severely Disabled, Jefferson Plaza 2, Suite 10800, 1421 Jefferson Davis Highway, Arlington, Virginia, 22202-3259.

FOR FURTHER INFORMATION CONTACT: Barry S. Lineback, Telephone: (703) 603-7740, Fax: (703) 603-0655, or e-mail CMTEFedReg@AbilityOne.gov.

SUPPLEMENTARY INFORMATION:

Additions

On 6/4/2010 (75 FR 31768-31769),6/11/2010 (75 FR 33270-33271), and6/18/2010 (75 FR 34701-34702), the Committee for Purchase From People Who Are Blind or Severely Disabled published notices of proposed additions to the Procurement List.

After consideration of the material presented to it concerning capability of qualified nonprofit agencies to provide the services and impact of the additions on the current or most recent contractors, the Committee has determined that the services listed below are suitable for procurement by the Federal Government under 41 U.S.C. 46-48c and 41 CFR 51-2.4.

Regulatory Flexibility Act Certification

I certify that the following action will not have a significant impact on a substantial number of small entities. The major factors considered for this certification were:

1. The action will not result in any additional reporting, recordkeeping or other compliance requirements for small entities other than the small organizations that will provide the services to the government.

2. The action will result in authorizing small entities to provide the services to the government.

3. There are no known regulatory alternatives which would accomplish the objectives of the Javits-Wagner-O'Day Act (41 U.S.C. 46-48c) in connection with the services proposed for addition to the Procurement List.

End of Certification

Accordingly, the following services are added to the Procurement List:

Services

Service Type/Locations:

Laundry Service, Atlanta VA Medical Center, 1670 Clairmont Road, Decatur, GA.

W.J.B. Dorn VA Medical Center, 6439 Garners Ferry Road, Columbia, SC.

Ralph H. Johnson VA Medical Center, 109 Bee Street, Charleston, SC.

Charlie Norwood VA Medical Center Downtown Division, 800 Balie Street, Augusta, GA.

Athens VA Community Based Outpatient Clinic (CBOC), 9249 Highway 29 South, Athens, GA.

Aiken Community Based Outpatient Clinic (CBOC), 951 Milbrook Avenue, Aiken, SC.

Charlie Norwood VA Medical Center Uptown Division, 1 Freedom Way, Augusta, GA.

Carl Vinson VA Medical Center, 1826 Veterans Boulevard, Dublin, GA.

NPA: GINFL Services, Inc., Jacksonville, FL.

Contracting Activity: Department of Veterans Affairs, VISN 7 Consolidated Contracting, Augusta, GA.

Service Type/Location: Custodial Service, Fort Leonard Wood, MO.

NPA: Challenge Unlimited, Inc., Alton, IL.

Contracting Activity: Dept of the Army, XR W6BA ACA FT Leonard Wood, MO.

Service Type/Location: Custodial Service, CMS Headquarters (Central, North & South Bldgs.), 7500 Security Boulevard, Woodlawn, MD.

NPA: Didlake, Inc., Manassas, VA.

Contracting Activity: GSA/PBS/R03 Chesapeake, Philadelphia, PA.

Service Type/Location: Custodial Service, U.S. Department of Energy, Forrestal Complex, 1000 Independence Avenue, SW., Washington, DC.

NPA: Didlake, Inc., Manassas, VA

Contracting Activity: Department of Energy, Headquarters Procurement Services, Washington, DC.

Service Type/Location: Custodial Service, Tobyhanna Army Depot, 11 Hap Arnold Blvd, Tobyhanna, PA.

NPA: Allied Health Care Services, Scranton, PA.

Contracting Activity: Dept of the Army, XR W0ML USA DEP Tobyhanna, Tobyhanna Army Depot, PA.

Service Type/Location: Custodial Service, Command, Control Computers and Communications, Intelligence, Surveillance and Reconnaissance (C4ISR), 4118 Susquehanna Avenue, Aberdeen Proving Ground, MD.

NPA: The Chimes, Inc., Baltimore, MD.

Contracting Activity: Dept of the Army, XR W6BA ACA, Aberdeen Proving Ground, Aberdeen Proving Ground, MD.

Service Type/Location: Base Supply Center (BSC) and Individual Equipment Element (IEE) Scott Air Force Base, IL.

NPA: Associated Industries for the Blind, Milwaukee, WI.

Contracting Activity: Dept of the Air Force, FA4407 375 CONS LGC, Scott AFG, IL.

Deletion

On 6/4/2010 (75 FR 31768-31769), the Committee for Purchase From People Who Are Blind or Severely Disabled published notice of proposed deletion from the Procurement List.

After consideration of the relevant matter presented, the Committee has determined that the service listed below is no longer suitable for procurement by the Federal Government under 41 U.S.C. 46-48c and 41 CFR 51-2.4.

Regulatory Flexibility Act Certification

I certify that the following action will not have a significant impact on a substantial number of small entities. The major factors considered for this certification were:

1. The action will not result in additional reporting, recordkeeping or other compliance requirements for small entities.

2. The action may result in authorizing small entities to provide a service to the Government.

3. There are no known regulatory alternatives which would accomplish the objectives of the Javits-Wagner-O'Day Act (41 U.S.C. 46-48c) in connection with a service deleted from the Procurement List.

End of Certification

Accordingly, the following service is deleted from the Procurement List:

Service

Service Type/Location: Administrative Service, U.S. Department of Commerce: National Weather Service NOAA, National Reconditioning Center, Kansas City, MO.

NPA: Alphapointe Association for the Blind, Kansas City, MO.

Contracting Activity: Department Of Commerce, National Oceanic and Atmospheric Administration, Norfolk, VA.

Barry S. Lineback,
Director, Business Operations.

[FR Doc. 2010-20053 Filed 8-12-10; 8:45 am]

BILLING CODE 6353-01-P